DEPARTMENT OF THE INTERIOR

Fish and Wildlife Service

[FWS-R9-FHC-2008-N0270; 71490-1351-0000-L5]

Letters of Authorization To Take Marine Mammals

AGENCY: Fish and Wildlife Service, Interior.

ACTION: Notice of issuance.

SUMMARY: In accordance with the Marine Mammal Protection Act of 1972 (MMPA) as amended, notice is hereby given that Letters of Authorization to take polar bears and Pacific walruses incidental to oil and gas industry exploration, development, and production activities in the Beaufort Sea and adjacent northern coast of Alaska have been issued.

FOR FURTHER INFORMATION CONTACT: Mr. Craig Perham at the Fish and Wildlife Service, Marine Mammals Management Office, 1011 East Tudor Road, Anchorage, Alaska 99503, (800) 362-5148 or (907) 786-3810.

SUPPLEMENTARY INFORMATION: A Letter of Authorization has been issued to the following companies in accordance with Fish and Wildlife Service Federal Rules and Regulations (see “Marine Mammals; Incidental Take During Specified Activities” at 71 FR 43926; August 2, 2006) under section 101(a)(5)(A) of the MMPA and the Fish and Wildlife Service implementing regulations at 50 CFR 18.27(f)(3):

Letters of Authorization for 2007

Company | Activity | Project | Date issued
Kerr-McGee Oil and Gas | Development | Nikaitchuq | Oct 26, 2006.
ConocoPhillips Alaska, Inc | Exploration | Intrepid | Dec 4, 2006.
Anadarko Petroleum Co | Exploration | Jacob's Ladder | Dec 7, 2006.
Savant Alaska, LLC | Exploration | Kupcake #1 | Dec 27, 2006.
ConocoPhillips Alaska, Inc | Exploration | Noatak #1, 2, 3 | Dec 12, 2006.
ConocoPhillips Alaska, Inc | Exploration | Nugget #1, 2 | Dec 12, 2006.
ConocoPhillips Alaska, Inc | Exploration | Cassin #1, 2, 3 | Dec 12, 2006.
ConocoPhillips Alaska, Inc | Exploration | Spark Down Dip #9-12 | Dec 12, 2006.
ConocoPhillips Alaska, Inc | Exploration | Makua | Dec 15, 2006.
Pioneer Natural Resources Alaska, Inc | Development | Oooguruk Project | Dec 21, 2006.
Brooks Range Petroleum Corp | Exploration | Sak River | Dec 27, 2006.
Ukpeagvik Inupiat Corporation | Development | Cape Simpson Industrial Port | Jan 31, 2007.
BP Exploration Alaska, Inc | Exploration | Milne Point seismic | Jan 23, 2007
Shell Offshore, Inc | Exploration | Aerial Reconnaissance | Jan 23, 2007.
Shell Offshore, Inc | Exploration | On-ice seismic | Mar 8, 2007.
Shell Offshore, Inc | Exploration | Open water seismic | July 31, 2007
Shell Offshore, Inc | Exploration | Beaufort Drilling Program | Aug 20, 2008.

Letters of Authorization for 2008

Company | Activity | Project | Date issued
Savant Alaska, LLC | Exploration | Kupcake #1 | Dec 4, 2007
Pioneer Natural Resources Alaska, Inc | Development | Oooguruk Project | Dec 4, 2007.
Anadarko Petroleum Co | Exploration | Jacob's Ladder | Dec 3, 2007
Anadarko Petroleum Co | Exploration | Gubik, Chandler | Dec 3, 2007.
Brooks Range Petroleum Corp | Exploration | Tofkat | Dec 3, 2007
Brooks Range Petroleum Corp | Exploration | Gwydyr Bay | Dec 3, 2007.
Veritas DGC Land Inc | Exploration | 2008 winter seismic | Jan 8, 2008.
Eni U.S. Operating Co, Inc | Development | Nikaitchuq | Feb 22, 2008.
ConocoPhillips Alaska, Inc | Exploration | Char #1 | Feb 12, 2008.
ConocoPhillips Alaska, Inc | Exploration | Spark Down Dip 9 | Feb 12, 2008.
Shell Offshore, Inc | Exploration | Aerial Reconnaissance Program | Jan 28, 2008.
BP Exploration Alaska, Inc | Exploration | Liberty Seismic Program | March 6, 2008.
BP Exploration Alaska, Inc | Remediation | Challenge Island #1 | April 11, 2008.
PGS Onshore, Inc | Exploration | OBC Seismic | July 10, 2008.
Shell Offshore, Inc | Exploration | Open water seismic | July 10, 2008.
ExxonMobil Production Co | Development | Point Thomson | Aug 19, 2008.

Dated: September 17, 2008.
Thomas O. Melius,
Regional Director.

[FR Doc. E8-24514 Filed 10-14-08; 8:45 am]

BILLING CODE 4310-55-P